SMALL BUSINESS ADMINISTRATION

13 CFR Part 121

RIN 3245-AG47

Small Business Size Standards; Adoption of 2012 North American Industry Classification System for Size Standards; Correction

AGENCY: U.S. Small Business Administration.

ACTION: Interim final rule; correction.

SUMMARY: The U.S. Small Business Administration (SBA) is correcting an interim final rule that appeared in the Federal Register on August 20, 2012 (75 FR 49991). The document amended SBA's Small Business Size Regulations by incorporating the Office of Management and Budget's 2012 modifications of the North American Industry Classification System (NAICS) into its table of small business size standards. In addition, the document revised the definitions of some NAICS 2007 industries, deleted others, and aggregated a number of closely related industries and activities into other new or revised industries. SBA will adopt the changes effective with the beginning of the Federal Government's first new fiscal year (October 1, 2012) following the revisions.

DATES: Effective October 1, 2012.

FOR FURTHER INFORMATION CONTACT: Khem Sharma, Chief, Office of Size Standards, U.S. Small Business Administration, 409 Third Street SW., Washington, DC 20416.

SUPPLEMENTARY INFORMATION: In FR Doc. 2012-19973 appearing on page 49991 in the Federal Register issue of Monday, August 20, 2012, the following corrections are made:

1. On page 50008, in the second column, instruction `y' is corrected to read as follows: “y. Remove entries 315111, 315119, 315191, 315912, 315211, 315212, 315221 through 315225, 315228, 315231 through 315234, 315239, 315291, 315292, 315299, 315991, 315992, 315993 and 315999;”.

2. On page 50008, in the third column, instruction `ll' is corrected to read as follows: “ll. Add entries for 325130, 325180, and 325194;”.

3. On page 50008, in the third column, instruction `ddd' is corrected to read as follows: “ddd. Add an entry for 332119;”.

4. On page 50008, in the third column, instruction `eee' is corrected to read as follows: “eee. Remove the entries for 332211, 332212, 332213, and 332214;”.

5. On page 50008, in the third column, instruction `jjj' is corrected to read as follows: “jjj. Remove the entries for 332995, 332997, and 332998;”.

Dated: September 10, 2012.
Calvin Jenkins,
Deputy Associate Administrator for Government Contracting and Business Development.

[FR Doc. 2012-22627 Filed 9-13-12; 8:45 am]

BILLING CODE 8025-01-P